FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011463-010.

Title: East Coast North America to West Coast South America and Caribbean Cooperative Working Agreement.

Parties: Compania Chilena de Navegacion Interoceanica S.A.; Hamburg-Sudamerikanische Dampfschifffahrts-Gesellschaft KG (HSDG); Compania Sud Americana de Vapores S.A. (CSAV); and Norasia Container Lines Limited.

Filing Party: Wayne R. Rohde, Esq.; Cozen O'Connor; 1627 I Street NW.; Suite 1100; Washington, DC 20006.

Synopsis: The Amendment would delete CCNI as a party to the agreement and indicate that HSDG will be operating under the agreement under both its own name and the CCNI brand, which it will be acquiring with other assets of CCNI in the near future. The parties have requested expedited review.

Agreement No.: 011539-018.

Title: HLAG/NYK Space Charter and Sailing Agreement.

Parties: Companhia Libra de Navegacao; Comania Libra de Navegacion Uruguay S.A.; Norasia Container Lines Limited; Hapag-Lloyd AG; Nippon Yusen Kaisha.

Filing Party: Wayne R. Rohde, Esq.; Cozen O'Connor, 1627 I Street NW.; Washington, DC 20006.

Synopsis: The Amendment would delete Norasia as a party and make corresponding changes in the vessel provision and space allocation provisions of the Agreement.

Agreement No.: 012297-001.

Title: ECNA/ECSA Vessel Sharing Agreement.

Parties: Hamburg Sud; Alianca Navegacao e Logistica Ltds. e CIA; Norasia Container Lines Limited; Companhia Libra de Navegacao; Compania Libra de Navegacion Uruguay S.A.; Hapag-Lloyd AG; and Nippon Yusen Kaisha.

Filing Party: Wayne Rohde, Esq.; Cozen O'Connor; 1627 I Street NW.; Suite 1100; Washington, DC 20006.

Synopsis: The agreement would delete Norasia as a party to the agreement and revise the vessel provision and space allocation provisions accordingly.

Agreement No.: 012321.

Title: MOL/“K” Line Space Charter Agreement.

Parties: Mitsui O.S.K. Lines, Ltd. and Kawasaki Kisen Kaisha, Ltd.

Filing Party: Eric. C. Jeffrey, Esq.; Nixon Peabody LLP; 401 9th Street NW., Suite 900; Washington, DC 20004.

Synopsis: The Agreement authorizes the parties to charter space to/from one another for the transportation of vehicles and other Ro/Ro cargo in the trade between the United States and Europe.

Agreement No.: 012322.

Title: TOKO Line/NYK Bulk & Projects Space Charter and Cooperative Working Agreement.

Parties: TOKO Kaiun Kaisha, Ltd. and NYK Bulk & Projects Carriers, Ltd.

Filing Party: Eric. C. Jeffrey, Esq.; Nixon Peabody LLP; 401 9th Street NW.; Suite 900; Washington, DC 20004.

Synopsis: The Agreement authorizes the parties to charter space to/from one another on an as needed/as available basis in the trade from Japan to the United States.

Agreement No.: 012323.

Title: Hoegh/Hyundai Glovis Transatlantic Vessel Sharing Agreement

Parties: Hoegh Autoliners AS and Hyundai Glovis Co. Ltd.

Filing Party: Wayne R. Rohde, Esq.; Cozen O'Connor; 1627 I Street NW.; Suite 1100; Washington, DC 20006.

Synopsis: The Agreement authorizes the parties to share vessels in the trades between the U.S. Atlantic Coast and Mexico, Belgium, France and Germany.

Agreement No.: 201227-001.

Title: Pacific Ports Operational Improvements Agreement.

Parties: Ocean Carrier Equipment Management Association, Inc.; West Coast MTO Agreement; Maersk Line A/S; APL Co. Pte Ltd.; American President Lines, Ltd.; CMA CGM S.A.; Cosco Container Lines Company Limited; Evergreen Line Joint Service Agreement FMC Agreement No. 011982; Hamburg-Sud; Alianca Navegacao e Logistica Ltda.; Hanjin Shipping Co., Ltd.; Hapag-Lloyd AG; Hapag-Lloyd USA; Companhia Libra de Navegacao; Compania Libra de Navegacion Uruguay S.A.; Mitsui O.S.K. Lines, Ltd.; Nippon Yusen Kaisha Line; Kawasaki Kisen Kaisha, Ltd.; APM Terminals Pacific, Ltd.; California United Terminals, Inc.; Eagle Marine Services, Ltd.; International Transportation Service, Inc.; Long Beach Container Terminal, Inc.; Seaside Transportation Service LLC; Trapac, Inc.; Total Terminals LLC; West Basin Container Terminal LLC; Yusen Terminals, Inc.; Pacific Maritime Services, L.L.C.; SSA Terminals, LLC; and SSA Terminal (Long Beach), LLC.

Filing Party: Jeffrey F. Lawrence, Esq.; Cozen O'Connor; 1627 I Street NW.; Suite 1100; Washington, DC 20006.

Synopsis: The Amendment would add Hyundai Merchant Marine Co., Ltd., Zim Integrated Shipping Services and Matson Navigation Company, Inc. as ocean carrier parties to the Agreement and SSA Terminals (Oakland), LLC, SSA Terminals (Seattle), LLC, Sea Star Stevedoring Company, Inc. and Washington United Terminals, Inc. as marine terminal operator parties to the Agreement. The parties have requested expedited review.

By Order of the Federal Maritime Commission.
Dated: March 20, 2015.
Rachel E. Dickon,
Assistant Secretary.

[FR Doc. 2015-06862 Filed 3-24-15; 8:45 am]

BILLING CODE 6730-01-P